DEPARTMENT OF LABOR

[SGA/DFA-PY-08-02]

Employment & Training Administration

Solicitation for Grant Applications (SGA) Community-Based Job Training Grants

AGENCY: Employment and Training Administration (ETA, Labor).

ACTION: Notice: Amendment to SGA/DFA-PY-08-02.

SUMMARY: The Employment and Training Administration published a document in the Federal Register on October 10, 2008, announcing the availability of funds and solicitation for grant applications (SGA) for Community-Based Job Training Grants to be awarded through a competitive process. This notice is the second amendment to the SGA and extends the receipt for proposal due date from November 24, 2008 to December 3, 2008, as well as updates and clarifies items related to: (1) Evaluation of the grants (Section III. C. 8. Section IV and Attachment A); (2) accessibility to a performance tracking system (Section V. A. 5.); and (3) bonus points (Section V. A. 7.).

Supplemental Information Correction

1. Key Dates: The closing date for receipt of applications under this announcement has been extended from a closing date of November 24, 2008 to a new closing date of December 3, 2008, 4 p.m. Eastern Time.

2. Section III. C. 8., “CBJTGs Evaluation,” is revised as follows (page 60348-60349):

“ETA is interested in determining if training provided through the CBJTGs impacts students' future labor force outcomes. To that end, ETA expects to select grantees awarded funds through this SGA to participate in an evaluation. Therefore, to receive funds under this solicitation, sites must include in their application a statement that, if selected as a grantee they agree to participate in an evaluation. In addition, sites must be willing to share with the evaluation contractor individual information on demographics, participant characteristics, services received and outcomes, and must be willing to provide access to program operating personnel and participants, including after the expiration date of the grant.

“ETA will select an independent contractor to design and conduct the evaluation. ETA will consider a variety of options for the design of the evaluation, including the feasibility of conducting a random assignment evaluation. In a random assignment evaluation, eligible applicants to the program would be randomly selected to be offered training under the CBJTG. Impacts would then be measured by comparing the outcomes of those offered training to outcomes of those not offered training. This is generally agreed to be the most rigorous method of measuring impacts.”

3. Section IV. B. “Content and Form of Application Submission,” is revised as follows (page 60350, bullet point regarding attachment A):

“A statement that the applicant is willing to implement and participate in an evaluation, which may include methodology to evaluate impact of the program.”

4. Section V. A. 5. “Program Management and Organization Capacity,” is revised as follows (page 60354, last bullet point):

“The applicant organization demonstrates significant capacity to accomplish the goals and outcomes of the project, including the ability to collect, manage, and report data in a way that allows consistent, accurate, and expedient reporting. Applicants should be aware that ETA provides access to a software system to help grantees collect and report the performance data that is required by these grants. This system allows grantees to track information on individual participants and their progress through training, and facilitates grantees' submission of performance data as required by the grant. Applicants' response to this section of the evaluation criteria could reference the use of this software system.”

5. Section V. A. 7. “Collaboration with Faith-Based and Community Organizations,” is revised as follows (page 60354):

“ETA will award five bonus points to applicants that demonstrate, with evidence, collaboration with faith or community-based organizations (or both) to serve populations with barriers to employment as part of their regional training efforts. To receive these five bonus points, applicants must provide a detailed description of this collaboration, including: (1) Clear identification of the specific faith or community-based organizations (or both) that will be involved in the collaboration; (2) a concise, detailed description of the specific role that these organizations will play in the project; (3) any projected outcomes associated with the organizations role in the project, and (4) letters of commitment from each of these organizations stating their support for the project and outlining their specific role in the project.”

6. Section VII. “Agency Contacts,” is revised as follows (page 60355):

“For further information regarding this SGA, please contact Melissa Abdullah, Grants Management Specialist, Division of Federal Assistance, at (202) 693-3346 (please note this is not a toll-free number).”

7. Attachment A, “Memorandum of Agreement,” is revised as follows:

“In applying for these funds, the organization represented by the undersigned (the “applicant”) agrees to participate in an evaluation designed and conducted by an independent contractor selected by ETA. This agreement is intended to serve as evidence of the applicant's commitment to support and participate in the evaluation. If selected for the evaluation, the applicant agrees to adhere to the evaluation design developed by the evaluation team. Additionally, the applicant agrees to provide all data requested by the evaluation contractor, subject to applicable confidentiality and privacy statutes.”

8. Answers to Frequently Asked Questions for this SGA which include questions raised during the virtual prospective applicant conference are posted on ETA's Web site at: http://www.doleta.gov/business/Community-BasedJobTrainingGrants.cfm and http://www.workforce3one.org.

FOR FURTHER INFORMATION CONTACT: Chari Magruder, Grant Officer, Division of Federal Assistance, at (202) 693-3313.

DATES: Effective Date: This notice is effective November 18, 2008.

Signed at Washington, DC this 13th day of November, 2008.
Chari A. Magruder,
Grant Officer.

[FR Doc. E8-27354 Filed 11-18-08; 8:45 am]

BILLING CODE 4510-30-P